DEPARTMENT OF ENERGY

Federal Energy Regulatory Commission

Notice of Non-Project Use of Project Lands and Waters and Soliciting Comments, Motions To Intervene, and Protests

October 27, 2000.

Take notice that the following application has been filed with the Commission and is available for public inspection:

a. Application Type: Non-Project Use of Project Lands and Waters.

b. Project No.: 349-064.

c. Date Filed: September 26, 2000.

d. Applicant: Alabama Power Company.

e. Name of Project: Martin Dam Project.

f. Location: On Lake Martin at The Ridge Subdivision, in Elmore County, Alabama. The development site does not involve federal or tribal lands.

g. Filed Pursuant to: Federal Power Act, 16 U.S.C. 791(a)-825(r).

h. Applicant Contact: Mr. R.M. Akridge, Alabama Power Company, P.O. Box 2641, Birmingham, Alabama 35291. (205) 257-1401.

i. FERC Contact: Any questions on this notice should be addressed to Brian Romanek at (202) 219-3076.

j. Deadline for filing comments and/or motions: December 7, 2000.

All documents (original and eight copies) should be filed with Mr. David P. Boergers, Secretary, Federal Energy Regulatory Commission, 888 First Street, NE, Washington, DC 20426. Beginning November 1, 2000, comments and protests may be filed electronically via the internet in lieu of paper. See, 18 CFR 385.2001(a)(1)(iii) and the instructions on the Commission's web site at http://www.ferc.fed.us/efi/doorbell.htm.

Please reference the following number, P-349-064, on any comments or motions filed.

k. Description of Proposal: Alabama Power Company proposes to issue a permit to Russell Lands, Inc. to build a marina containing a total of 228 wet boat slips to accommodate seasonal docking and courtesy docks for 56 boats to accommodate patrons of a restaurant located off project property. The marina would provide broad access to the reservoir for residents of The Ridge Subdivision. Constructing the marina would not require dredging of the lake bottom. Additional marina facilities proposed within the project boundary are: (1) A waste water pump-out station for pumping boat toilet facilities; (2) a floating boat fueling facility with underground fuel tanks; (3) a concrete boat ramp; (4) a stationary pier forklift ramp and; (5) a floating breakwater.

l. Locations of the Application: A copy of the application is available for inspection and reproduction at the Commission's Public Reference Room, at 888 First Street, NE, Room 2A, Washington, DC 20426, or by calling 202-208-1371. The application may be viewed on-line at http://www.ferc.fed.us/online/rims.htm (call 202-208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITONS”, “PROTEST”, OR “MOTION TO INTERVENE” as applicable, and the Project Number of the particular application to which the filing refers. Any of the above-named documents must be filed by providing the original and the number of copies provided by the Commission's regulations to: The Secretary, Federal Energy Regulatory Commission, 888 First Street, N.E., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

Linwood A. Watson, Jr.,
Acting Secretary.

[FR Doc. 00-28129 Filed 11-1-00; 8:45 am]

BILLING CODE 6717-01-M